NUCLEAR REGULATORY COMMISSION

[Docket No. 70-0036]

Notice of Availability of Environmental Assessment and Finding of No Significant Impact Related to Issuance of Amendment No. 52 to Materials License No. SNM-00033, Westinghouse Electric Company, LLC Hematite Former Fuel Fabrication Facility Located in Festus, MO, Site (TAC No. L52641)

AGENCY: U.S. Nuclear Regulatory Commission.

ACTION: Notice of Availability of Environmental Assessment and Finding of No Significant Impact.

FOR FURTHER INFORMATION CONTACT: Amy M. Snyder, Senior Project Manager, Decommissioning Directorate, Division of Waste Management and Environmental Protection, Office of Nuclear Material Safety and Safeguards, U.S. Nuclear Regulatory Commission, M.S. T7 E-18, Rockville, MD, 20852-2738. Telephone: (301) 415-8580; Fax number: (301) 415-5398; e-mail: ams3@nrc.gov.

SUPPLEMENTARY INFORMATION:

I. Introduction

The U.S. Nuclear Regulatory Commission (NRC) is considering amending Nuclear Materials License Number SNM-00033 issued to Westinghouse Electric Company, LLC (WEC) to authorize the dismantlement and demolition of Buildings 101, 110, 115, 120, 230, 231, 235, 240, 245, 252, 253, 254, 255, 256, 260, and 261 down to building slabs and foundations at grade at the WEC Hematite Former Fuel Fabrication Facility in Festus, Missouri. This consideration is being supported by this Environmental Assessment (EA) and a separate Safety Evaluation Report (SER). In a letter dated October 5, 2004 (ML042860234), WEC submitted a request to NRC to amend Materials License Number SNM-00033 to obtain authorization to dismantle and demolish Buildings 101, 110, 115, 120, 230, 231, 235, 240, 245, 252, 253, 254, 255, 256, 260, and 261 down to building slabs and foundations at grade. In its request, WEC noted that it wants the flexibility to not demolish all the non-process buildings, if it later decides to keep these buildings for reuse. The licensee's October 5, 2004, license amendment request (ML051310063) was noticed in the Federal Register on November 16, 2004 (69 FR 67187). That Federal Register notice also provided an opportunity for a hearing on this licensing action, and no hearing requests were submitted. NRC has prepared this EA in support of its consideration of the amendment request and in accordance with the requirements of 10 CFR part 51. This EA evaluates the potential environmental impacts of WEC's request. Based on this EA, the staff has concluded that a Finding of No Significant Impact (FONSI) is appropriate.

II. Environmental Assessment

Background

From the mid 1950s until 2001, the Hematite site was involved in production and manufacturing of nuclear fuel. The majority of the buildings were constructed during 1956 through 1974 with final construction in 1989. There are currently no fuel manufacturing activities at the site. Building 101 (Tile Barn) housed the former Emergency Operations Center during plant operations and was later used for the storage of both clean and contaminated equipment. Building 110 houses the security and some administrative office spaces. Building 115 housed the plant diesel emergency generator and fire pumps. Building 120 (Wood Barn) was used for storing both clean and contaminated equipment. Building 230 was used for the fuel assembly operations. The building surfaces have no known levels of contamination above the level for unrestricted use. Building 230 currently houses administrative offices. Building 231 was used as a warehouse to store shipping containers. Building 235 was used as a vault to store depleted, natural, and enriched uranium. Building 240 contained a laboratory and maintenance area, a recycle recovery area, and a waste incinerator. Past operations in this building also included the conversion of high enriched uranium using a wet conversion process and recovery. A portion of the building was used for recycle and recovery operations and high-enriched material operations. Another portion of the building was used for the incinerator and housed low-enriched powder operations, including ammonium diurinate and oxidation/reduction furnaces. Building 245 (Well House) was used for treating potable water by chlorination. Building 252 (South Vault) is a reinforced concrete structure with six bays and was used for storage of low-enriched uranium. Building 253 contains offices, various site utilities, a former uranium storage facility, former processing areas and decontamination facilities. Contained within Building 253 is Building 250, which was formerly a stand-alone structure. Building 250 became room 250-1, and in 1958, rooms 250-2 and 250-3 were added to Building 250. Building 250 was used for the storage of fuel feed stock. Nuclear fuel was manufactured in Buildings 254 (Pellet Plant) and 255 (Erbia Plant). Buildings 256-1 (Pellet Drying) was initially used for a warehouse space and later was used for pellet drying. Building 256-2 (Workhouse) was used as the main warehouse for shipping pellets and receiving supply. Building 260 was used for a conversion process. Building 261 was used for storage of unused limestone and contained a preheat furnace.

Since there is known contamination under the process buildings and the licensee has not yet characterized the soil under the process and non-process buildings, the licensee will not be able to release the non-process buildings that it does not demolish under this proposed licensing action for unrestricted use. Furthermore, building foundation and subsurface soil removal are not covered under this proposed licensing action nor the current license.

In accordance with a previously issued amendment to Materials License Number SNM-00033, the licensee has been performing limited decommissioning for the purpose of reducing residual radioactivity and other industrial contaminants from internal building equipment and components for the process buildings. WEC completed this work in March 2006. The NRC performed an EA, using NUREG-1748 as guidance, to evaluate these limited decommissioning activities. The EA and associated SER for limited decommissioning of the equipment and materials in the buildings, waste removal, and limited site characterization activities form the basis for NRC granting license amendment 42 to Materials License Number SNM-00033. In addition, WEC has produced an engineering evaluation/cost analysis and a work plan to comply with Comprehensive Environmental Response, Compensation, and Liability Act (CERCLA) for the building demolition. These documents can be found on the Missouri Department of Natural Resources (MDNR) Web site at http://www.mdnr.mo.gov. In addition, WEC has made these documents available at the Festus, Missouri Public Library.

The radioactive contamination at WEC's Hematite, Missouri site consists of soils, and building and equipment surfaces contaminated with uranium, fission products, and by-product material from licensed operations that occurred from the mid 1950s until 2001. The groundwater is contaminated with uranium, technicium, and volatile organic compounds (VOCs). At this point in time, only the VOCs in the groundwater have migrated offsite. Remediation of this groundwater contamination will be the subject of a separate NRC action that addresses subsurface remediation.

As stated above, WEC submitted a request to NRC in 2004 for authorization to dismantle and demolish designated buildings at its site. By letters dated June 28, 2005 (ML051720051), December 23, 2005 (ML053330179), and March 2, 2006 (ML06540109), the NRC staff transmitted requests for additional information (RAIs) related to the proposed building demolition and dismantlement. In letters dated July 22, 2005 (ML052140426), January 31, 2006 (ML060330438) and March 17, 2006 (ML060800265), WEC responded to the RAIs. NRC found these responses to the RAIs acceptable.

Site Local and Physical Description

The WEC Hematite site is located approximately ¾ of a mile northeast of the unincorporated town of Hematite and approximately 35 miles south of the City of St. Louis, Missouri. The site is primarily surrounded by suburban and residential communities in Jefferson County, Missouri. Jefferson County is predominantly rural and characterized by rolling hills with many sizeable woodland tracts. The land area is classified as 51% forest, 33% agricultural, and approximately 16% urban, suburban, commercial, and unused or undeveloped. The primary land within a five-mile radius of the facility consists of deciduous forest, pasture and residential areas. Residential land use is centered in the communities of Festus/Crystal City to the northeast, Horine to the north, and Hillsboro to the northwest. Other land uses include row crop and urban/residential. Land use classifications are based on the National Land Cover Dataset. The plant facilities are located on a central site tract of approximately 10 to 20 acres. The entire site is approximately 220 acres. Much of the northern portion of the property is wooded. Surface water bodies on the site include the East Lake, located on the eastern end of the site, the Site Pond, located west of the site buildings, Joachim Creek along the southern site boundary, Northeast Site Creek and Site Creek. The Hematite facility is located on the north, northeast flank of the Precambrian age St. Francis Mountains uplift, which created the Ozark Dome. A full description of the site and its characteristics is provided in the WEC Environmental Report for Building Demolition at the Hematite Facility which was submitted in conjunction with the license amendment request for dismantlement and demolition of the buildings. The nearby community of Hematite has expressed interest in future development of the site. However, as of April 2006, no definite future plans have been developed for the site.

Regulatory Requirements

10 CFR part 70, “Domestic Licensing of Special Nuclear Material” applies to the decommissioning of the Hematite Former Fuel Fabrication Facility. Termination of licenses and decommissioning are addressed in § 70.38. However, this proposed action will not result in license termination. It will only address building demolition. Financial assurance requirements are found in § 70.25 and 70.38. Completeness and accuracy of the radiation safety records and information provided to NRC are addressed in § 70.9. Section 2.1205 discusses the public's opportunities to request hearings on licensing actions. 10 CFR part 20, subpart E, sets forth radiological criteria for license termination in § 20.1402, 20.1403, and 20.1404. The requirements for final status surveys are contained in § 20.1501(a); 10 CFR part 51, “Environmental Protection Regulations for Domestic Licensing and Related Regulatory Functions,” and 10 CFR part 71, “Packaging and Transportation of Radioactive Material” (part 71 requires that licensees or applicants who transport licensed material, or who may offer such material to a carrier for transportation, must comply with the applicable requirements of the Department of Transportation that are found in 49 CFR parts 170 through 189).

The Proposed Action

The proposed action is to amend NRC Materials License Number SNM-00033 to allow the dismantlement and demolition of the buildings 101, 110, 115, 120, 230, 231, 235, 240, 245, 252, 253, 254, 255, 256, 260, and 261 down to building slabs and foundations at grade. No work will be performed on sub-grade soil, the building slabs/foundations, or sub-grade structures and systems. WEC states in its application that the demolition of concrete buildings will be performed as determined by an engineering evaluation. WEC plans to perform an engineering evaluation of the demolition of the concrete masonry unit (CMU) structures and concrete buildings, and use dismantlement and demolition techniques, such as cutting and shearing to demolish the buildings. Manual jack-hammers, equipment mounted jack-hammers (hoe ram), skid-steer loader, or shears will be used to remove/dismantle and to size reduce concrete or CMU structures. The CMU walls may also be brought down using pushover techniques. Steel reinforcement bars will be torch-cut, sheared, or saw-cut as required for dismantlement, leveling, or size reduction purposes. The only potential waste streams from the facility will result from the building dismantlement and demolition process. Wastes that are anticipated are: (1) Debris; (2) dust; (3) rubble and (4) water. Based on characterization data, WEC proposes to segregate and analyze the waste as required by the disposal facility site's waste acceptance criteria. WEC proposes that debris will be characterized, and will meet free release criteria for radiological and hazardous contamination, and will be shipped to an approved waste disposal facility for disposal. If the debris does not meet free release criteria, then it will be packaged accordingly and shipped to an approved waste disposal facility for disposal.

Need for the Proposed Action

The NRC regulations require licensees to begin timely decommissioning of their sites, or any separate buildings, that contain residual radioactivity, upon cessation of licensed operations, in accordance with § 70.38(d). The purpose of the proposed action is to reduce residual radioactivity at WEC's Hematite site. Additionally, although no definite future use plans have been developed for the site at this time, due to potential commercial value of the site property, the licensee plans to eventually return the land to unrestricted use in accordance with § 20.1402. The proposed licensing action is a step toward this goal. If this proposed licensing action is not granted, the licensee will not be able to fully address surface and subsurface contamination under buildings, which will prolong the overall cleanup of the site. The NRC is fulfilling its responsibilities under the Atomic Energy Act, as amended, and the National Environmental Policy Act to make a decision on this proposed license amendment for building dismantlement and demolition that will ensure adequate protection of the public health, safety and the environment.

Alternatives to the Proposed Action

The proposed action is to decontaminate the buildings with dismantlement and demolition down to building slabs and foundations at grade. There are three alternatives to the proposed action of dismantlement and demolition of the buildings: (1) To take no further action; (2) to decontaminate the buildings without dismantlement and demolition; and (3) to decontaminate the buildings with dismantlement and demolition to include removal of the slabs and foundations. Alternative one, the no-action alternative, is not consistent with § 70.38(d), requiring that decommissioning of special nuclear material facilities be completed and approved by the NRC after licensed activities cease. The no-action alternative would keep radioactive material on site without disposal. The second alternative would involve maintaining the buildings on site due to known and potential subsurface soil contamination under the process building. This would provide negligible, if any, environmental benefit and would greatly reduce options for future unrestricted use of the site. Alternative 3 would result in exposing the subsurface contamination, that was contained under the buildings, to the open environment. Specifically, exposing the subsurface would expose workers and visitors to radiological and potential non-radiological hazards in the subsurface soil. As discussed earlier, the licensee has not yet fully evaluated the subsurface contamination under the buildings. Potentially contaminated materials could be released into the surrounding environment via effluents or airborne particles. Shipping the subsurface contaminated material off-site for disposal could also potentially expose workers and others to the material before, during, and after shipment to a waste disposal facility. The environmental impact could potentially put workers and the surrounding environment at risk, and therefore, is not an environmentally sound option at this time. Therefore, these alternatives are not considered to be reasonable and are not analyzed further in the EA.

The licensee's proposed action is described in detail in the proposed building dismantlement and demolition license amendment application. This action is preferred over the alternative actions because the proposed action has little, if any, impact on the environment. Once the buildings are dismantled and demolished down to the slabs and foundations at grade, all radiological materials will be confined to either the slabs and foundations or the subsurface.

Environmental Impacts of the Proposed Action

The NRC staff has reviewed the license amendment request for the WEC facility in Hematite and examined the impacts of this license amendment request. Potential impacts include impacts to water resources (e.g., water may be used for dust control), impacts to air quality from dust emissions, temporary impacts to local traffic resulting from transporting the building debris offsite, beneficial local economic effects due to the creation of jobs to perform dismantlement and demolition, dose impacts, noise impacts from equipment operation, scenic quality impacts, and waste management impacts. There may be minor impacts to surface water resources at the Hematite facility as a result of water runoff that could occur during the building dismantlement and demolition process. According to the licensee's amendment request, the runoff, whether as a result of natural precipitation or from water used to control fugitive dust emission, will be managed by WEC Hematite erosion and sediment control management plan. Any discharge will be in compliance with Material License Number SNM-00033 and the WEC Hematite National Pollutant Discharge Elimination System (NPDES) permit issued and managed by the State of Missouri. There will be no significant surface and no subsurface soil disturbances as the buildings will be removed down to the grade and concrete slab level. There are no flood plains or wetlands present within the central site tract where the building demolition will take place. The central site tract soil consists primarily of relatively impermeable soil. WEC has committed to using best practices to manage all potential impacts during building dismantlement and demolition. Overall, it is anticipated that there will be no significant impact on surface water or groundwater.

Additionally, the staff has determined that significant air quality, noise, land use, economic and off-site radiation exposure impacts are not expected. No significant air quality impacts are anticipated because of the contamination controls and dust suppression techniques that will be implemented by WEC during building dismantlement and demolition. WEC license amendment request describes the work to be performed and its strategy for controlling radiation diffuse emissions and discharge. WEC has committed to have procedures for performing building dismantlement and demolition that will include guidance for controlling emissions and run-off. The staff determined that no significant economic impact will result from the creation of jobs to perform dismantlement and demolition because the work should take a small amount of time to complete.

The staff evaluated the temporary local traffic impacts resulting from transporting the building debris and wastes offsite due to the licensee's proposed request. WEC ceased fuel production operations at the Hematite Facility and has no future plans for operating the site as a nuclear fuel processing facility. WEC states that clean debris will be containerized, transported, and disposed of at a licensed facility. The risk to human health from the transportation of all radioactive material in the U.S. was evaluated in NUREG-0170, “Final Environmental Statement on the Transportation of Radioactive Materials by Air and Other Modes.” The principal radiological environmental impact during normal transportation is minimal direct radiation exposure to transport workers and nearby persons from radioactive material in the package. The average annual individual dose from all radioactive material transportation in the U.S. was calculated as approximately 0.5 mrem per year, well below the § 20.1301 limit of 100 mrem per year for a member of the public. WEC estimates that 2 to 3 truck loads of demolition waste will leave the site per working day compared to an average daily traffic flow of approximately 2,570 vehicles per day (2002 data) on State Route P. The trucks will then travel on State Route A, a two-lane rural/suburban highway which connects to State Route P approximately 2 miles east of the site. State Route A enters the western edge of Festus, Missouri. Interstate 55, a major north-south freeway, is located approximately 3.5 miles east of the site and intersects with State Route A in Festus, Missouri. This four-lane interstate freeway connects to Interstate Highways 270, 44, and 70 in the St. Louis, Missouri area, approximately 35 miles north of the site. The annual average daily traffic count for I-55 near Festus was 35,347 vehicles per day (2002 data). There are no public transit systems, such as bus or light rail available in the immediate vicinity of the site. The trucks, once entering the above Interstate Highways, will then travel to their intended destinations. Based on the Environmental Report for Building Demolition at the Hematite Facility, the licensee states that it anticipates that debris from the dismantled buildings would likely be transported by truck to the Envirocare Facility in Clive, Utah or to the Radiological Assistance, Consulting and Engineering (RACE) Facility in Memphis, Tennessee. The proposed transportation of waste from the building, dismantlement, and demolition is not anticipated to result in significant impacts.

Monitoring

The license amendment request submitted by WEC described the effluent/environmental monitoring that will take place during building dismantlement and demolition. This description included not only the routine effluent/environmental monitoring program that WEC presently has in place, but also that additional air monitoring (local demolition project-specific perimeter air monitors) shall be performed during the demolition activities.

Work activities are not anticipated to result in radiation exposures to individual members of the public in excess of ten percent of the § 20.1301 limits. However, WEC's environmental monitoring program must implement the requirements of its Radioactive Materials License, Chapter 3, Radiation Protection, and Chapter 5, Environmental Protection. WEC has acknowledged that building demolition activities will require that building stack monitoring be terminated and has committed to shift compliance monitoring to air monitoring devices located around the site to assure that all pathways for release of radioactive material are monitored. WEC has updated its technical basis for its Environmental Monitoring Program to address building dismantlement and demolition activities. Moreover, WEC has stated it will modify and supplement approved environmental monitoring plans, policies, and procedures that support the license, before and during the proposed work, as necessary, to support building dismantlement and demolition.

Perimeter monitors to measure air borne radiation levels are to be established as close to the demolition activities as possible and again at the boundary of the work area. Currently, three onsite remote air monitoring samples are collected continuously and the results are analyzed weekly. During the demolition activities, the licensee has committed to use a minimum of three area monitors. The locations for the air samplers will be chosen considering meteorological conditions relative to the dismantlement and demolition activities to ensure that maximum airborne concentrations are collected. The air sampling data will be used by WEC to demonstrate that any effluent from the proposed building dismantlement and demolition will be in accordance with 10 CFR part 20 requirements.

Additionally, WEC has indicated in its application that it will evaluate the existing building characterization data and pre-demolition characterization data for each building it plans to dismantle and/or demolish prior to building demolition to verify the radiological conditions and controls that WEC incorporated in implementing building demolition procedures remain appropriate.

On February 26, 2006, staff asked WEC additional questions regarding the radiological status of the buildings with respect to Nuclear Criticality Safety (NCS). Staff evaluated the data and determined that there is no NCS concern for the building demolition activities because the total residual mass of UO2 in the buildings (i.e., 5 kg UO2) is less than the favorable geometry mass limit in the license application (i.e., 16 kg UO2). Also, NRC staff determined that the licensee is not required to have a criticality accident alarm system for building demolition because the conservative estimate of mass of U²³⁵ in the buildings (i.e., 250 grams U²³⁵) is less than the action limit in § 70.24 (i.e., 700 grams of U²³⁵). Thus, NRC has reasonable assurance of NCS during building demolition activities. Work activities are not anticipated to result in radiation exposures to individual members of the public in excess of ten percent of the § 20.1301 limits. In addition, the staff agrees that the Environmental Monitoring plan is appropriate for the proposed activities and it is not anticipated to result in significant impacts to public health, safety, and the environment.

Cumulative Impacts

The NRC has evaluated whether cumulative environmental impacts could result from an incremental impact of the proposed action when added to other past, present, or reasonably foreseeable future actions in the area. The proposed NRC approval of the License Amendment Request, when combined with known effects on resource areas at the site, including future further site remediation, are not anticipated to result in any cumulative impacts at the site.

Mitigation Measures

The license amendment request submitted by WEC contains mitigation measures to further ensure that the requested licensing action will not have any adverse environmental impact. WEC plans to implement procedural controls, such as the use of less aggressive dismantlement and demolition techniques, including cutting and shearing, to minimize the generation of fugitive emissions. Other engineering controls, including water sprays, will also be utilized to control fugitive emissions and visible dust, if needed. In addition, WEC has agreed to perform the mitigative measures that have been proposed by the Missouri State Historic Preservation Office (SHPO) regarding the historical impact of the proposed action. WEC will provide erosion and sediment control, as necessary, in accordance with best management practices, regulatory guidance, and good engineering practices. This will include structural features, stabilization, and storm water management. The controls may be temporary or permanent.

Agencies and Individuals Consulted

The NRC staff prepared a draft EA and sent it to the Missouri SHPO, by letter dated November 4, 2004, and the U.S. Fish and Wildlife Service (FWS), by letter dated November 9, 2004. The Missouri SHPO, in its response letter dated January 4, 2005, noted that “In order for the project to move forward, it is acceptable to our office that Westinghouse and NRC proceed with the project, in accordance with the draft MOA (Memorandum of Agreement).” The FWS, in its response letter dated December 10, 2004, indicated that “our evaluation and search of existing information indicates no federally listed, proposed, or candidate species or critical habitat occurs on or near the project site. This fulfills your consultation requirements under section 7 of the Endangered Species Act of 1973, as amended”.

The staff provided a draft of this EA to the MDNR for review. In its letter dated April 20, 2005, which commented on draft EA, the MDNR responded by stating it agreed with the proposed alternative, but made no other comments about the draft EA. However, this letter from the MDNR also mentions the MNDR's January 2005 letter to WEC. The MDNR's letter to WEC identified concerns related to monitoring and mitigation. Staff addressed environmental monitoring concerns through the RAI process, noted above and found WEC's responses acceptable. The staff then developed a Final Draft of this EA and provided it to MDNR for its review and comment by letter dated April 28, 2006 (ML061170223). By letter dated, May 11, 2006, MDNR concurred with the conclusions in the Final Draft of this EA (ML061170282).

Conclusion

NRC has prepared this EA in support of the proposed license amendment to approve the building demolition and dismantlement of site buildings down to building slabs and foundations at grade at the Hematite Facility in Festus, MO. On the basis of the EA, NRC has concluded that the environmental impacts from the proposed action are not expected to be significant and has determined that preparation of an Environmental Impact Statement (EIS) is not needed for the proposed action. Approval of the license amendment will not cause significant impacts on the health and safety of the public or on the environment due to mitigation measures that WEC is committing to use. The NRC staff has concluded that radiological exposures to workers will be low and well within the limits specified in 10 CFR part 20. Dismantlement and demolition of the buildings, as proposed by the amendment request, will result in an overall reduction of radioactive material at the WEC Hematite which will reduce the long term potential for release of radiological contamination to the environment. No significant radiologically contaminated effluents are expected during building dismantlement and demolition. No significant effluent releases of radiological material or other releases are expected.

List of Preparers

This Environmental Assessment was prepared entirely by the following NRC staff:

Amy Snyder, Senior Project Manager, Decommissioning Directorate, Division of Waste Management and Environmental Protection, Office of Nuclear Material Safety and Safeguards (NMSS), Decommissioning Issues.

Alicia Mullins, Environmental Project Managers, Division of Waste Management and Environmental Protection, NMSS, Environmental Issues.

Sources Used

1. NRC Materials License No. SNM-00033.

2. WEC's October 5, 2004, license amendment request was noticed in the Federal Register on November 16, 2004 (69 FR 67187). This Federal Register notice also provided an opportunity for a hearing on this licensing action (See ADAMS Accession No. ML043000467).

3. The application for the license amendment and supporting documentation are available for review at the U.S. Nuclear Regulatory Commission's (NRC's) Public Electronic Reading Room at http://www.nrc.gov/reading-rm/adams.html. (See ADAMS Accession No. ML042860234, ML042880279, and ML050250347).

4. NUREG-0170, 1977. Final Environmental Impact Statement on the Transportation of Radioactive Material by Air and Other Modes, U.S. Nuclear Regulatory Commission, Washington, DC.

5. NUREG-0586, 1988. Final Generic Environmental Impact Statement on the Decommissioning of Nuclear Facilities, U.S. Nuclear Regulatory Commission, Washington, DC.

6. NUREG-1496, 1977. Generic Environmental Impact Statement in Support of Rulemaking on Radiological Criteria for License Termination of NRC-Licensed Nuclear Facilities Nuclear Regulatory Commission, Washington, DC, July.

7. NUREG-1748, 2003. Environmental Review Guidance for Licensing Actions Associated with NMSS Programs Nuclear Regulatory Commission, Washington, DC, August.

8. REGULATORY GUIDE-1.86, 1974. Termination of Operating Licenses for Nuclear Reactors, Nuclear Regulatory Commission, Washington, DC, June.

9. NRC letter to Missouri Historic Preservation Office, to Allison Dubbert from Amir Kouhestani, dated November 4, 2004 (ML043070004).

10. U.S. Fish and Wildlife Services letter to Amir Kouhestani, dated November 11, 2004 (ML043520384).

11. WEC, January 4, 2005. “Demolition Permit Application for Demolition of the Buildings”, Jefferson County Building Commission, Hillsboro, Missouri.

12. State of Missouri Department of Natural Resources, letter to Amir Kouhestani from Mark A. Miles, dated January 4, 2005 (ML050130140).

13. Asbestos Abatement Registration Form for WEC filed with the Missouri Department of Public Health.

14. State of Missouri Department of Natural Resources, letter to Amir Kouhestani from Ben L. Moore, dated January 18, 2005, (ML050310161).

15. State of Missouri Department of Natural Resources, letter to Henry A. Sepp, dated January 18, 2005 (ML050310182).

16. NRC Draft EA, letter to Honorable Doyle Childers, dated March 2, 2005.

17. State of Missouri Department of Natural Resources, letter to Daniel Gillen from Doyle Childers, dated April 20, 2005.

18. United States Department of the Interior, Fish and Wildlife Services, letter to Amir Kouhestani from Charles M. Scott, dated December 10, 2004 (ML043520384).

19. NRC, RAI letters to WEC, dated June 28, 2005 (ML051720051), December 23, 2005 (ML053330179), and March 2, 2006 (ML060540109).

20. WEC, Response to RAI letters to NRC, dated July 22, 2005 (ML052140426), January 31, 2006 [ML060330438], and March 17, 2006 (ML060800265).

21. WEC, Submittal of Technical Report to NRC, DO-05-001, Environmental Report for Hematite Site Decommissioning, dated August 31, 2005 (ML052580255).

22. NRC, Final Draft EA letter to State of Missouri Department of Natural Resources, to Ben Moore, from Amy M. Snyder, letter dated April 28, 2006 (ML061170223).

23. State of Missouri Department of Natural Resources, letter to Amy M. Snyder from Ben L. Moore, dated May 11, 2006 (ML061560372).

III. Finding of No Significant Impact

On the basis of this EA, NRC has concluded that there are no significant environmental impacts and the license amendment does not warrant the preparation of an EIS. Accordingly, it has been determined that a FONSI is appropriate.

IV. Further Information

Documents related to this action, including the application for amendment and supporting documentation, are available electronically at the NRC's Electronic Reading Room at http://www.nrc.gov/reading-rm/adams.html. From this site, you can access the NRC's Agencywide Document Access and Management System (ADAMS), which provides text and image files of NRC's public documents.

If you do not have access to ADAMS or if there are problems in accessing the documents located in ADAMS, contact the NRC's Public Document Room (PDR) Reference staff at 1-800-397-4209, 301-415-4737, or by e-mail to pdr@nrc.gov. These documents may also be viewed electronically on the public computers located at the NRC's PDR, O-1F21, One White Flint North, 11555 Rockville Pike, Rockville, MD 20852. The PDR reproduction contractor will copy documents for a fee.

Dated at Rockville, Maryland this 14th day of June 2006.
For the Nuclear Regulatory Commission.
Andrew Persinko,
Acting Deputy Director, Decommissioning Directorate, Division of Waste Management and Environmental Protection, Office of Nuclear Material Safety and Safeguards.

[FR Doc. E6-10267 Filed 6-28-06; 8:45 am]

BILLING CODE 7590-01-P